DEPARTMENT OF HEALTH AND HUMAN SERVICES

Health Care Financing Administration

[Document Identifier: HCFA-10003]

Agency Information Collection Activities: Submission for OMB Review; Comment Request

In compliance with the requirement of section 3506(c)(2)(A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection;

Title of Information Collection: Medicare + Choice Beneficiary Appeal Notices, “Notice of Denial of Medical Services”, “Notice of Denial of Request for Payment” and Supporting Regulations in 42 CFR 422.568;

Form No.: HCFA-10003 (OMB# 0938-NEW);

Use: This collection includes two Medicare + Choice appeal notices, Denial of Service and Denial of Payment. Pursuant to the Social Security Act Section 1852(g)(1)(B), M+C organizations are required to issue notices to Medicare managed care beneficiaries when a request for either medical service or payment is denied. Additionally, the notices inform beneficiaries of their right to file an appeal.

All M+C organizations will be required to use these forms. Neither the Health Care Financing Administration (HCFA) nor the M+C organizations will use such notices to collect and analyze data on M+C beneficiary appeals. They are for information purposes only. These forms have been revised in accordance with public comments received during the 60-day comment period.;

Frequency: On occasion;

Affected Public: Business or other for-profit and Individuals or Households;

Number of Respondents: 29,892;

Total Annual Responses: 29,892;

Total Annual Hours: 2,994.

To obtain copies of the supporting statement for the proposed paperwork collections referenced above, access HCFA's WEB SITE ADDRESS at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, DC 20503.

Dated: March 1, 2001.
John P. Burke III,
HCFA Reports Clearance Officer, HCFA, Office of Information Services, Security and Standards Group, Division of HCFA Enterprise Standards.

[FR Doc. 01-7134 Filed 3-21-01; 8:45 am]

BILLING CODE 4120-03-P